ENVIRONMENTAL PROTECTION AGENCY

40 CFR Part 52

[EPA-R04-OAR-2023-0211; FRL-11927-02-R4]

Air Plan Approval; FL; General Provisions Repeals and Amendments

AGENCY: Environmental Protection Agency (EPA).

ACTION: Final rule.

SUMMARY: The Environmental Protection Agency (EPA) is approving a State Implementation Plan (SIP) revision submitted by the Florida Department of Environmental Protection (FDEP) on August 12, 2022, for the purpose of removing several obsolete, duplicative, or unnecessary rules from the general provisions portion of the Florida SIP. EPA is approving this revision pursuant to the Clean Air Act (CAA or Act).

DATES: This rule is effective August 15, 2024.

ADDRESSES: EPA has established a docket for this action under Docket Identification No. EPA-R04-OAR-2023-0211. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that you contact the person listed in the FOR FURTHER INFORMATION CONTACT section to schedule your inspection. The Regional Office's official hours of business are Monday through Friday 8:30 a.m. to 4:30 p.m., excluding Federal holidays.

FOR FURTHER INFORMATION CONTACT: Sarah LaRocca, Air Planning and Implementation Branch, Air and Radiation Division, Region 4, U.S. Environmental Protection Agency, 61 Forsyth Street SW, Atlanta, Georgia 30303-8960. The telephone number is (404) 562-8994. Ms. LaRocca can also be reached via electronic mail at larocca.sarah@epa.gov.

SUPPLEMENTARY INFORMATION:

I. Background

EPA is approving changes to the Florida SIP submitted by the State on August 12, 2022, to remove several obsolete, duplicative, or unnecessary rules from the Florida SIP. Specifically, the changes address Rules 62-204.100, Florida Administrative Code (F.A.C.), Purpose and Scope; 62-204.200, F.A.C., Definitions; 62-204.220, F.A.C., Ambient Air Quality Protection; 62-204.240, F.A.C., Ambient Air Quality Standards; 62-204.260, F.A.C., Prevention of Significant Deterioration Maximum Allowable Increases (PSD Increments); and 62-204.400, F.A.C., Public Notice and Hearing Requirements for State Implementation Plan Revisions.¹ To support the removal of these rules from the SIP, Florida's August 12, 2022, submittal provides justifications to demonstrate, pursuant to CAA section 110(l), that the removal would not interfere with any applicable requirement concerning attainment of the National Ambient Air Quality Standards (NAAQS) and reasonable further progress (RFP) or any other applicable requirement of the CAA.

¹ FDEP's August 12, 2022, SIP Revision also included changes to Rules 62-204.320, 62-204.340, 62-204.360, and 62-204.500. Florida subsequently withdrew the changes to Rules 62-204.320, 62-204.340, and 62-204.360 from EPA's consideration. EPA intends to address the changes to Rule 62-204.500 in a separate rulemaking.

Through a notice of proposed rulemaking (NPRM) published on May 15, 2024 (89 FR 42410), EPA proposed to approve the removal of Rules 62-204.100, F.A.C., Purpose and Scope; 62-204.200, F.A.C., Definitions; 62-204.220, F.A.C., Ambient Air Quality Protection; 62-204.240, F.A.C., Ambient Air Quality Standards; 62-204.260, F.A.C., Prevention of Significant Deterioration Maximum Allowable Increases (PSD Increments); and 62-204.400, F.A.C., Public Notice and Hearing Requirements for State Implementation Plan Revisions, from the Florida SIP. EPA's rationale for approving the removal of these rules is described in the May 15, 2024, NPRM. Comments on the May 15, 2024, NPRM were due on or before June 14, 2024. EPA received three comments on the NPRM. Two of the comments received on the May 15, 2024, NPRM are not relevant to this action. The third comment is addressed below. All three comments are available in the docket for this action.

II. Response to Comments

EPA received one relevant comment on its May 15, 2024, NPRM. EPA has summarized and responded to the comment below.

Comment: The commenter recommends “leaving the rules defined as `unnecessary' to better protect the environment.”

Response: The commenter does not explain how requiring Florida to maintain unnecessary rules in its SIP would better protect the environment, nor why EPA's reasons for approving the changes as required by the CAA is incorrect.

Additionally, EPA disagrees with the commenter's cursory statement. A SIP is a federally enforceable plan for each State that identifies how that State will attain and maintain the NAAQS. In formulating its SIP, each State is given wide discretion so long as it is consistent with all applicable requirements of the CAA, including section 110(l), and EPA must approve SIP revisions that meet these requirements. See CAA sections 110(a), (k). EPA initially incorporated Rules 62-204.100, 62-204.200, 62-204.220, 62-204.240, 62-204.260, and 62-204.400 into the SIP in 1999, as part of Florida's measures to attain and maintain the NAAQS. See 64 FR 32346. The SIP revision at issue subsequently removes Rules 62-204.100, 62-204.200, 62-204.220, 62-204.240, 62-204.260, and 62-204.400. The State has determined that these rules are unnecessary for one or more of the following reasons: they do not contain any requirements; certain definitions are not required to be part of the Florida SIP or are redundant due to subsequent changes in the SIP; and certain requirements are covered elsewhere in another SIP-approved Rule or in the Code of Federal Regulations. EPA has determined that this revision meets all applicable requirements of the CAA. Therefore, EPA must approve the revision.

III. Incorporation by Reference

In this document, EPA is finalizing regulatory text that includes incorporation by reference. EPA is finalizing the removal of Rules 62-204.100, Purpose and Scope; 62-204.200, Definitions; 62-204.220, Ambient Air Quality Protection; 62-204.240, Ambient Air Quality Standards; 62-204.260, Prevention of Significant Deterioration Maximum Allowable Increases (PSD Increments); and 62-204.400, Public Notice and Hearing Requirements for State Implementation Plan Revisions, from the Florida SIP, which is incorporated by reference in accordance with the requirements of 1 CFR part 51, and as discussed in Section I of this preamble. EPA has made and will continue to make the State Implementation Plan generally available at the EPA Region 4 Office (please contact the person identified in the For Further Information Contact section of this preamble for more information).

IV. Final Action

EPA is approving the August 12, 2022, Florida SIP revision consisting of the removal of Rules 62-204.100, Purpose and Scope; 62-204.200, Definitions; 62-204.220, Ambient Air Quality Protection; 62-204.240, Ambient Air Quality Standards; 62-204.260, Prevention of Significant Deterioration Maximum Allowable Increases (PSD Increments); and 62-204.400, Public Notice and Hearing Requirements for State Implementation Plan Revisions, from the Florida SIP.

V. Statutory and Executive Language

Under the CAA, the Administrator is required to approve a SIP submission that complies with the provisions of the CAA and applicable Federal regulations. See 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

FDEP did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for people of color, low-income populations, and Indigenous peoples.

List of Subjects in 40 CFR Part 52

Environmental protection, Air pollution control, Incorporation by reference, Intergovernmental relations, Nitrogen dioxide, Ozone, Particulate matter, Reporting and recordkeeping requirements, Sulfur oxides.

Dated: July 9, 2024.
Jeaneanne Gettle,
Acting Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart K—Florida

§ 52.520 [Amended]

2. In § 52.520(c), amend the table by removing the entries for “62-204.100,” “62-204.200,” “62-204.220,” “62-204.240,” “62-204.260,” and “62-204.400.”

[FR Doc. 2024-15416 Filed 7-15-24; 8:45 am]

BILLING CODE 6560-50-P